DEPARTMENT OF THE INTERIOR

Fish and Wildlife Service

DEPARTMENT OF COMMERCE

National Oceanic and Atmospheric Administration

[FWS-R1-R-2008-N0040; 1265-0000-10137-S3]

Papahānaumokuākea Marine National Monument, Hawai‘i

AGENCIES: U.S. Fish and Wildlife Service (FWS), Interior; National Oceanic and Atmospheric Administration (NOAA), Commerce.

ACTION: Notice of availability for the draft monument management plan and environmental assessment; announcement of public meetings; request for comments.

SUMMARY: This notice advises the public that NOAA, FWS, and the State of Hawai‘i's Department of Land and Natural Resources (DLNR), and Office of Hawaiian Affairs have prepared a Draft Monument Management Plan (MMP) and associated environmental assessment (EA) for the Papahānaumokuākea Marine National Monument (Monument) located in the Northwestern Hawaiian Islands (NWHI), which includes all federal lands and waters within its boundaries. The State of Hawai‘i is a Cooperating Agency on the development of the MMP and EA. The Monument's resources and management activities, ongoing and proposed, are described in the Draft MMP. The MMP is available for public review and comments. Ten public meetings are scheduled to obtain your comments on and answer your questions about the Draft MMP, see SUPPLEMENTARY INFORMATION for details.

DATES: To ensure consideration, we must receive written comments by July 8, 2008.

ADDRESSES: The Draft MMP and EA are available on the FWS and NOAA Web sites http://www.fws.gov/pacificislands and http://hawaiireef.noaa.gov/, as well as at local libraries within the State of Hawai‘i. You may provide written comments on the Draft MMP and EA by any of the following methods:

U.S. Mail: Papahānaumokuākea Marine National Monument, Attn: Susan White, FWS Superintendent, Box 50167, Honolulu, HI 96850-5000; or

E-mail: PMNM_MMP_Comments@fws.gov.

FOR FURTHER INFORMATION CONTACT: Susan White, FWS Superintendent, phone (808) 792-9480.

SUPPLEMENTARY INFORMATION:

Monument Background

On June 15, 2006, President George W. Bush established the Northwestern Hawaiian Islands Marine National Monument by issuing Presidential Proclamation 8031 (Proclamation) (71 FR 36443, June 26, 2006) under the authority of the Act of June 8, 1906 (34 Stat. 225, 16 U.S.C. 431) (the Antiquities Act).

On December 8, 2006, the Secretaries of Commerce and the Interior and the Governor of Hawai‘i signed a Memorandum of Agreement to jointly manage Federal and State lands and waters within the Monument as Co-Trustees and to collectively protect, conserve, and enhance Monument marine and terrestrial habitats and resources.

On February 28, 2007, President Bush amended the Proclamation to rename the Monument—Papahānaumokuākea Marine National Monument—to reflect Hawaiian language and culture (72 FR 10031, March 6, 2007).

Location, Size, and Federal and State Resource Management

Proclamation 8031 reserves all lands and interests in lands owned or controlled by the Government of the United States in the Northwestern Hawaiian Islands (NWHI), including emergent and submerged lands and waters out to a distance of approximately 50 nautical miles from the islands.

The Monument is approximately 100 nautical miles wide and extends approximately 1,200 miles around coral islands, seamounts, banks, and shoals. The area includes the:

• Northwestern Hawaiian Islands Coral Reef Ecosystem Reserve,

• Midway Atoll National Wildlife Refuge/Battle of Midway National Memorial,

• Hawaiian Islands National Wildlife Refuge,

• Hawaii State Seabird Sanctuary at Kure Atoll, and

• State of Hawai‘i's Northwestern Hawaiian Islands Marine Refuge.

NOAA maintains responsibility for managing the NWHI Coral Reef Ecosystem Reserve, included within the Monument, and has primary responsibility regarding the management of the marine areas of the Monument, in consultation with FWS.

Refuge areas within the Monument, including the Midway Atoll National Wildlife Refuge, the Battle of Midway National Memorial, and the Hawaiian Islands National Wildlife Refuge, are managed by FWS.

The State maintains responsibility for managing state lands and waters within the Monument, including the NWHI State Marine Refuge and State Seabird Sanctuary at Kure Atoll.

Public Outreach and the MMP's Relationship to Previous Plans

As directed by Proclamation 8031, the Co-Trustees modified NOAA's Northwestern Hawaiian Islands Proposed National Marine Sanctuary Draft Management Plan (available at http://www.hawaiireef.noaa.gov), as appropriate, to create the Draft MMP. The MMP also builds upon the Interim Midway Visitor Services Plan (available at http://www.fws.gov/midway). Nearly 52,000 comments were received during NOAA's Sanctuary planning process, and a total of 6,282 comments were received on FWS's Draft Interim Midway Visitor Services Plan. Comments and issues raised during these planning efforts that are subject to decision by the Co-Trustees were considered during development of the Draft MMP. A summary of public involvement and the issues raised during scoping are included in the Draft MMP.

Management Planning Process and MMP Framework

The Draft EA of the MMP was developed in accordance with the requirements of the National Environmental Policy Act of 1969 (NEPA), as amended (42 U.S.C. 4321 et seq.); NEPA regulations (40 CFR parts 1500-1508); other appropriate Federal laws and regulations; and agency policies and procedures for compliance with those regulations. The EA has also been developed in accordance with the state environmental review requirements under Chapter 343, Hawai‘i Revised Statues.

FWS' refuge comprehensive conservation planning requirements, State of Hawai‘i's DLNR planning needs along with consultation with the Office of Hawaiian Affairs regarding Native Hawaiian traditional and cultural resources, rights and practices, and other elements were also incorporated into the Draft MMP. The National Wildlife Refuge System Administration Act of 1966 (Refuge Administration Act), as amended by the National Wildlife Refuge System Improvement Act of 1997 (16 U.S.C. 668dd-668ee), requires the FWS to develop a comprehensive conservation plan (CCP) for every national wildlife refuge. The purpose for developing a CCP is to provide refuge managers with a 15-year strategy for achieving refuge purposes and contributing toward the mission of the National Wildlife Refuge System, consistent with sound principles of fish and wildlife management, conservation, legal mandates, and FWS policies. In addition to conserving wildlife and their habitats, CCPs identify wildlife-dependent recreation available to the public.

Draft MMP/EA Alternatives

Two alternatives are analyzed in the Draft MMP and EA; a No Action Alternative and a Proposed Action Alternative (the preferred alternative). Under the No Action Alternative, the Co-Trustees would continue to implement activities to address priority management needs based on agency-specific plans. Under the Proposed Action Alternative, the Co-Trustees would implement new and expanded activities, in addition to ongoing activities, to manage high priority needs.

The Monument's priority management needs are to: understand and interpret Monument resources, conserve wildlife and habitats, reduce threats to Monument resources, manage human activities, facilitate coordination, and achieve effective operations. Action plans consisting of multiple strategies and activities address the priority management needs. The 22 action plans and corresponding desired outcomes follow.

Marine Conservation Science: Increase understanding of the distributions, abundances and functional linkages of marine organisms and their habitats to improve ecosystem-based management decisions in the Monument.

Native Hawaiian Culture and History: Increase understanding and appreciation of Native Hawaiian histories and cultural practices related to the Monument and effectively manage cultural resources for their cultural, educational, and scientific values.

Historic Resources: Identify, document, preserve, protect, stabilize, and where appropriate, reuse, recover, and interpret historic resources associated with Midway Atoll and other areas within the Monument.

Maritime Heritage Action Plan: Identify, interpret, and protect maritime heritage resources in the Monument.

Threatened and Endangered Species: Protect marine mammals and aid in the recovery of threatened and endangered plants and animals within the Monument.

Migratory Birds: Conserve migratory bird populations and habitats within the Monument.

Habitat Management and Conservation: Protect and maintain all the native ecosystems and biological diversity of the Monument.

Marine Debris: Reduce the adverse effects of marine debris to Monument resources and reduce the amount of debris entering the North Pacific Ocean.

Alien Species: Detect, control, eradicate where possible, and prevent the introduction of alien species into the Monument.

Maritime Transportation and Aviation: Investigate, identify, and reduce potential threats to the Monument from maritime and aviation traffic.

Emergency Response: Minimize damage to Monument resources through coordinated emergency response and assessment.

Permitting: Implement an effective and integrated permit program for the Monument that manages, minimizes, and prevents negative human impacts by allowing access only for those activities consistent with Presidential Proclamation 8031 and the implementing regulations of the Monument.

Enforcement: Achieve compliance with all regulations within the Monument.

Midway Atoll Visitor Services: Offer opportunities for visitors to discover, enjoy, appreciate, protect, and honor the unique natural, cultural, and historic resources of the Monument.

Agency Coordination: Successfully collaborate with government partners to achieve publicly supported, coordinated management in the Monument.

Constituency Building and Outreach: Cultivate an informed, involved constituency that supports and enhances conservation of the natural, cultural, and historic resources of the Monument.

Native Hawaiian Community Involvement: Engage the Native Hawaiian community in active and meaningful involvement in the Monument management.

Ocean Ecosystems Literacy: Cultivate an ocean ecosystems stewardship ethic, contribute to the Nation's science and cultural literacy, and create a new generation of conservation leaders through formal environmental education.

Central Operations: Conduct effective and well-planned operations with appropriate human resources and adequate physical infrastructure in the main Hawaiian Islands to support management of the Monument.

Information Management: Consolidate and make accessible relevant information to meet educational, management, and research needs for the Monument.

Coordinated Field Operations: Coordinate field activities and provide adequate infrastructure to ensure safe and efficient operations while avoiding impacts to the ecosystems in the Monument.

Evaluation: Determine the degree to which management actions are achieving the goals of the Monument.

Public Availability of Comments

Before including your address, phone number, e-mail address, or other personal identifying information in your comment, you should be aware that your entire comment—including your personal identifying information—may be made publicly available at any time. While you can ask us in your comment to withhold your personal identifying information from public review, it cannot be guaranteed that we will be able to do so.

Public Meetings

We will hold a statewide series of meetings where you will have opportunities to ask questions about the MMP and provide formal comments. Except for the Washington, D.C., meeting, each meeting will include two sessions—Session 1 will be an informal “talk story” session, and Session 2 will be a more formal meeting where you may present comments. Session times will be the same on each date, Session 1 will be held from 5:30 p.m. to 7 p.m., and Session 2 will be held from 7 p.m. to 8:30 p.m. Meeting details are available on the following Web sites: http://www.fws.gov/pacificislands and http://hawaiireef.noaa.gov/. The Washington, DC, meeting will begin at 1 p.m. and end at 4 p.m. The meeting dates and locations follow:

Number | Date | Location
1 | June 9, 2008 | Wai‘anae Parks and Recreation Complex, 85-601 Farrington Highway, Wai‘anae, O‘ahu.
2 | June 11, 2008 | Auditorium, Main Interior Building, 1849 C Street, NW., Washington, DC.
3 | June 12, 2008 | Maui Arts and Cultural Center, One Cameron Way, Kahului, Maui.
4 | June 13, 2008 | Lāna‘i High and Elementary School, 555 Frasier Avenue, Lāna‘i City, Lāna‘i.
5 | June 16, 2008 | Kūlana ‘Oiwi Hālau, 610 Maunaloa Hwy., Kaunakakai, Moloka‘i.
6 | June 17, 2008 | He‘eia State Park, 46-465 Kamehameha Highway, Kāne‘ohe, O‘ahu.
7 | June 18, 2008 | King Kamehameha Hotel, 75-5660 Palani Road, Kailua-Kona, Kona, Hawai‘i.
8 | June 19, 2008 | Mokupāpapa Discovery Center, 308 Kamehameha Ave., Suite 109, Hilo, Hawai‘i.
9 | June 23, 2008 | Hilton Kaua‘i Beach Resort, 4331 Kauai Beach Drive, Līhu‘e, Kaua‘i.
10 | June 24, 2008 | Japanese Cultural Center, 2454 South Beretania Street, Honolulu, O‘ahu.

Next Step

After the comment period ends for the Draft MMP and EA, we will analyze the comments and address them in the final MMP.

Dated: April 8, 2008.
David J. Wesley,
Acting Regional Director, Fish and Wildlife Service, Region 1, Portland, Oregon.
Daniel J. Basta,
Director, Office of National Marine Sanctuaries, National Oceanic and Atmospheric Administration, Silver Spring, Maryland.

[FR Doc. E8-8362 Filed 4-22-08; 8:45 am]

BILLING CODE 4310-55-P